DEPARTMENT OF TRANSPORTATION

Federal Aviation Administration

14 CFR Part 39

[Docket No. 2002-NM-156-AD; Amendment 39-13588; AD 2004-08-18]

RIN 2120-AA64

Airworthiness Directives; Dornier Model 328-300 Series Airplanes

AGENCY: Federal Aviation Administration, DOT.

ACTION: Final rule.

SUMMARY: This amendment supersedes an existing airworthiness directive (AD), applicable to certain Dornier Model 328-300 series airplanes, that currently requires repetitive inspections of motive flow check valves and adjacent parts for fuel leaks, and replacement of the valves if leaks are detected. This amendment requires new repetitive engine operational tests. This amendment also requires replacement of the motive flow check valves with new parts, which would constitute terminating action for the repetitive inspections and engine operational tests. The actions specified by this AD are intended to prevent leakage of fuel from the motive flow check valves, which could result in fuel vapors coming into contact with fuel ignition sources and consequent fuel tank explosion and fire. This action is intended to address the identified unsafe condition.

DATES: Effective June 1, 2004.

The incorporation by reference of a certain publication listed in the regulations is approved by the Director of the Federal Register as of June 1, 2004.

The incorporation by reference of a certain other publication listed in the regulations was approved previously by the Director of the Federal Register as of May 15, 2001 (66 FR 21276, April 30, 2001).

ADDRESSES: The service information referenced in this AD may be obtained from AvCraft Aerospace GmbH, PO Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2001-09-04, amendment 39-12209 (66 FR 21276, April 30, 2001), which is applicable to certain Dornier Model 328-300 series airplanes, was published in the Federal Register on February 26, 2004 (69 FR 8881). The action proposed to continue to require repetitive inspections of motive flow check valves and adjacent parts for fuel leaks, and replacement of the valves if leaks are detected. The action also proposed new repetitive engine operational tests, and replacement of the motive flow check valves with new parts, which would constitute terminating action for the repetitive inspections and engine operational tests.

Comments

Interested persons have been afforded an opportunity to participate in the making of this amendment. No comments were submitted in response to the proposal or the FAA's determination of the cost to the public.

Conclusion

We have determined that air safety and the public interest require the adoption of the rule as proposed.

Cost Impact

There are approximately 28 airplanes of U.S. registry that will be affected by this AD.

The repetitive inspections that are currently required by AD 2001-09-04 take approximately 1 work hour per airplane to accomplish, at an average labor rate of $65 per work hour. Based on these figures, the cost impact of the currently required actions on U.S. operators is estimated to be $1,820, or $65 per airplane, per inspection cycle.

The new actions that are required in this AD would take approximately 4 work hours per airplane to accomplish, at an average labor rate of $65 per work hour. Required parts would be provided by the manufacturer at no charge. Based on these figures, the cost impact of the requirements of this AD on U.S. operators is estimated to be $7,280, or $260 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12209 (66 FR 21276, April 30, 2001), and by adding a new airworthiness directive (AD), amendment 39-13588, to read as follows:

2004-08-18 Fairchild Dornier GmbH (Formerly Dornier Luftfahrt GmbH): Amendment 39-13588. Docket 2002-NM-156-AD. Supersedes AD 2001-09-04, Amendment 39-12209.

Applicability: 328-300 series airplanes, certificated in any category, equipped with a motive flow check valve having part number (P/N) 106-0007-01.

Compliance: Required as indicated, unless accomplished previously.

To prevent leakage of fuel from the motive flow check valves, which could result in fuel vapors coming into contact with fuel ignition sources and consequent fuel tank explosion and fire, accomplish the following:

Restatement of Requirements of AD 2001-09-04

Initial Inspection

(a) Prior to the accumulation of 800 total flight cycles on the motive flow check valve P/N 106-0007-01, or within 3 days after May 15, 2001 (the effective date of AD 2001-09-04, amendment 39-12209), whichever occurs later: Perform a general visual inspection of the lower inboard leading edge/pylon area and the pylon drain tube to detect fuel droplets or fuel staining, in accordance with paragraph 2.B of the Accomplishment Instructions of Dornier Alert Service Bulletin ASB 328J-28-007, dated September 20, 2000. If any fuel droplet or fuel staining is detected, prior to further flight, perform an additional inspection and operational test, in accordance with paragraphs 2.C and 2.D of the Accomplishment Instructions of Dornier Alert Service Bulletin ASB 328J-28-007, dated September 20, 2000.

Note 1: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Repetitive Inspections

(b) Within 15 days or 60 flight hours after May 15, 2001, whichever occurs first: Perform a general visual inspection of the motive flow check valve to detect fuel leaks, in accordance with paragraph 2.C of the Accomplishment Instructions of Dornier Alert Service Bulletin ASB 328J-28-007, dated September 20, 2000.

(1) If no fuel leak is detected, repeat the general visual inspection of the motive flow check valve at least every 15 days or 60 flight hours, whichever occurs first, until paragraph (b)(2) or paragraph (e) of this AD is accomplished.

(2) If any fuel leak is detected, prior to further flight, replace the motive flow fuel valve with a new valve, in accordance with the alert service bulletin. After the new valve has accumulated 800 flight cycles, do the general visual inspection of the valve required by paragraph (b) of this AD, including the repetitive inspection, at least every 15 days or 60 flight hours, whichever occurs first, until paragraph (e) of this AD is accomplished.

(c) Within 400 flight hours after May 15, 2001: Perform an engine operational test and a general visual inspection of the motive flow check valve to detect a fuel leak, in accordance with paragraphs 2.C and 2.D of the Accomplishment Instructions of Dornier Alert Service Bulletin ASB 328J-28-007, dated September 20, 2000.

(1) If no fuel leak is detected, repeat the engine operational test and the general visual inspection of the motive flow check valve at least every 400 flight hours, until paragraph (c)(2) or paragraph (e) of this AD is accomplished.

(2) If any fuel leak is detected, prior to further flight, replace the motive flow fuel valve with a new valve, in accordance with the alert service bulletin. After the new valve has accumulated 800 flight cycles, do the general visual inspection of the valve required by paragraph (c) of this AD, including the repetitive inspections, at least every 400 flight hours.

New Requirements of This AD

Repetitive Tests

(d) If any motive flow fuel valve is replaced per the requirements of paragraph (c)(2) of this AD: At the later of the times specified in paragraphs (d)(1) and (d)(2) of this AD, do the engine operational test required by paragraph (c) of this AD. Thereafter, repeat the engine operational test at intervals not to exceed 400 flight hours, until paragraph (e) of this AD is accomplished.

(1) Within 800 flight cycles after the replacement of any motive flow fuel valve.

(2) Within 30 days or 90 flight hours after the effective date of this AD, whichever is first.

Terminating Action for Repetitive Inspections and Tests

(e) Within 12 months after the effective date of this AD: Remove any motive flow check valve having P/N 106-0007-01 and replace it with a motive flow check valve having P/N 106-0007-02 in accordance with the Accomplishment Instructions of Dornier Service Bulletin SB-328J-28-047, dated May 18, 2001. Accomplishment of the replacement is terminating action for the repetitive inspections and engine operational tests required by paragraphs (b), (c) and (d) of this AD.

Parts Installation

(f) As of the effective date of this AD, no person may install a motive flow check valve, P/N 106-0007-01, on any airplane.

Alternative Methods of Compliance

(g) In accordance with 14 CFR 39.19, the Manager, International Branch, ANM-116, FAA, Transport Airplane Directorate, is authorized to approve alternative methods of compliance for this AD.

Incorporation by Reference

(h) The actions shall be done in accordance with Dornier Alert Service Bulletin ASB 328J-28-007, dated September 20, 2000; and Dornier Service Bulletin SB-328J-28-047, dated May 18, 2001; as applicable.

(1) The incorporation by reference of Dornier Service Bulletin SB-328J-28-047, dated May 18, 2001, is approved by the Director of the Federal Register in accordance with 5 U.S.C. 552(a) and 1 CFR part 51.

(2) The incorporation by reference of Dornier Alert Service Bulletin ASB 328J-28-007, dated September 20, 2000, was approved previously by the Director of the Federal Register as of May 15, 2001 (66 FR 21276, April 30, 2001).

(3) Copies may be obtained from AvCraft Aerospace GmbH, PO Box 1103, D-82230 Wessling, Germany. Copies may be inspected at the FAA, Transport Airplane Directorate, 1601 Lind Avenue, SW., Renton, Washington; or at the Office of the Federal Register, 800 North Capitol Street, NW., suite 700, Washington, DC.

Note 2: The subject of this AD is addressed in German airworthiness directive 2001-058/2, dated June 27, 2002.

Effective Date

(i) This amendment becomes effective on June 1, 2004.

Issued in Renton, Washington, on April 15, 2004.
Michael J. Kaszycki,
Acting Manager, Transport Airplane Directorate, Aircraft Certification Service.

[FR Doc. 04-9108 Filed 4-23-04; 8:45 am]

BILLING CODE 4910-13-P